NATIONAL AERONAUTICS AND SPACE ADMINSTRATION

[Notice 05-013]

Return to Flight Task Group; Meeting

AGENCY: National Aeronautics and Space Administration (NASA).

ACTION: Notice of meeting.

SUMMARY: In accordance with the Federal Advisory Committee Act, Public Law 92-463, as amended, the National Aeronautics and Space Administration announces a meeting by teleconference of the Return to Flight Task Group (RTF TG).

DATES: Thursday, February 17, 2005, from 11 a.m. until 12:30 p.m. Central Standard Time.

ADDRESSES: The teleconference will originate from the Apollo Annex, Suite 101, 1740 NASA Parkway, Houston, TX, 77598.

FOR FURTHER INFORMATION CONTACT: Mr. Vincent D. Watkins at (281) 792-7523.

SUPPLEMENTARY INFORMATION: The public may monitor the teleconference audio from the Apollo Annex Room 175 up to the seating capacity of the meeting room. Attendees will be requested to sign a register. Audio of the teleconference will be distributed via the Internet at http://returntoflight.org.

The agenda for the meeting is as follows:

—Welcome remarks from Co-Chair.

—Discussion of status of NASA's implementation of selected Columbia Accident Investigation Board return to flight recommendations.

—Action item summary from Executive Secretary.

—Closing remarks from Co-Chair.

It is imperative that the meeting be held on this date to accommodate the scheduling priorities of the key participants.

P. Diane Rausch,
Advisory Committee Management Officer, National Aeronautics and Space Administration.

[FR Doc. 05-2164 Filed 2-3-05; 8:45 am]

BILLING CODE 7510-13-P